DEPARTMENT OF ENERGY

Federal Energy Regulatory Commission

[Docket No. EC04-60-000, et al.]

Minnesota Power, et al.; Electric Rate and Corporate Filings

February 4, 2004.

The following filings have been made with the Commission. The filings are listed in ascending order within each docket classification.

1. Minnesota Power Split Rock Energy LLC

[Docket No. EC04-60-000]

Take notice that on February 2, 2004, Minnesota Power (MP) and Split Rock Energy LLC (Split Rock) tendered for filing pursuant to section 203 of the Federal Power Act, a joint application for authorization for MP to transfer its membership interest in Split Rock to Great River Energy.

Comment Date: February 23, 2004.

2. Alliant Energy Corporate Services, Inc.

[Docket No. EC04-61-000]

Take notice that on February 2, 2004, Alliant Energy Corporate Services, Inc. (Alliant), filed with the Federal Energy Regulatory Commission and application pursuant to section 203 of the Federal Power Act for authorization of a disposition of jurisdictional facilities whereby Interstate Power and Light Company to purchase by cash a portion of Northwest Iowa Power Cooperative's undivided interest in the transmission assets of the George Neal Generating Station.

Alliant states that a copy of this filing has been served upon the Illinois Commerce Commission, the Minnesota Public Utilities Commission, and the Iowa Utilities Board

Comment Date: February 23, 2004.

3. Black River Power, LLC Carlyle/Riverstone Global Energy and Power Fund II, L.P.

[Docket No. EC04-62-000]

Take notice that on February 3, 2004, Black River Power, LLC (Black River) and Carlyle/Riverstone Global Energy and Power Fund II, L.P., filed with the Federal Energy Regulatory Commission an application pursuant to section 203 of the Federal Power Act, 16 U.S.C. 824b, and part 33 of the Commission's regulations, 18 CFR part 33, for authorization of a disposition of certain jurisdictional facilities held by Black River.

Black River states that a copy of the application was served upon the Public Service Commission of New York.

Comment Date: February 24, 2004.

4. KES Kingsburg, L.P.

[Docket Nos. EL04-33-000 and QF86-155-004]

Take notice that on January 30, 2004, KES Kingsburg, L.P. filed a response to an informal data request concerning its Petition for Temporary Waiver to the QF Efficiency Standard, which is before the Commission in the above-captioned dockets.

Comment Date: February 13, 2004.

5. East Texas Electric Cooperative, Inc.

[Docket No. EL04-63-000]

Take notice that on January 20, 2004, East Texas Electric Cooperative, Inc. filed a request for waiver of the requirements of Order No. 2003.

Comment Date: February 10, 2004.

6. North West Rural Electric Cooperative

[Docket No. EL04-64-000]

Take notice that on January 20, 2004, North West Rural Electric Cooperative filed a request for waiver of the requirements of Order No. 2003.

Comment Date: February 10, 2004.

7. Citizens Communications Company

[Docket No. EL04-65-000]

Take notice that on January 20, 2004, Citizens Communications Company (Citizens) tendered for filing a request that the Commission to delay the effective date of the Order No. 2003 interconnection tariff provisions for Citizens until April 19, 2004.

Comment Date: February 10, 2004.

8. Vermont Electric Cooperative, Inc.

[Docket No. EL04-66-000]

Take notice that on January 20, 2004, Vermont Electric Cooperative, Inc. tendered for filing a request for waiver of the requirements of Order No. 2003.

Comment Date: February 10, 2004.

9. Oregon Trail Electric Consumers Cooperative, Inc.

[Docket No. EL04-67-000]

Take notice that on January 20, 2004, Oregon Trail Electric Consumers Cooperative, Inc. tendered for filing a request for waiver of the requirements of Order No. 2003.

Comment Date: February 10, 2004.

10. Bridger Valley Electric Association, Inc.

[Docket No. EL04-68-000]

Take notice that on January 20, 2004, Bridger Valley Electric Association, Inc. tendered for filing a request for waiver of the requirements of Order No. 2003.

Comment Date: February 10, 2004.

11. Wayne-White Counties Electric Cooperative

[Docket No. EL04-69-000]

Take notice that on January 12, 2004, Wayne White Counties Electric Cooperative tendered for filing a request for waiver of the requirements of Order No. 2003.

Comment Date: February 10, 2004.

12. Westar Energy, Inc., and Kansas Gas and Electric Company

[Docket No. EL04-70-000]

Take notice that on January 20, 2004, Westar Energy, Inc. and its wholly owned subsidiary, Kansas Gas and Electric Company tendered for filing a request for waiver of the requirements of Order No. 2003.

Comment Date: February 10, 2004.

13. The Empire District Electric Company

[Docket No. EL04-71-000]

Take notice that on January 20, 2004, The Empire District Electric Company submitted a filing concerning its plans for implementation of Order No. 2003.

Comment Date: February 10, 2004.

14. Oklahoma Gas and Electric Company

[Docket No. EL04-72-000]

Take notice that on January 20, 2004, Oklahoma Gas and Electric Company submitted a filing concerning the implementation of Order No. 2003.

Comment Date February 10, 2004.

15. Xcel Energy Services Inc.

[Docket No. ER01-205-004]

Take notice that on January 30, 2004, Xcel Energy Services Inc. (XES) on behalf of itself and the Xcel Energy Operating Companies (Northern States Power Company, Northern States Power Company, (Wisconsin) Public Service Company of Colorado, and Southwestern Public Service Company) submitted a triennial updated market power analysis for the Xcel Energy Operating Companies' systems.

Comment Date: February 20, 2004.

16. Cottonwood Energy Company LP

[Docket No. ER01-642-001]

Take notice that on January 30, 2004, Cottonwood Energy Company LP, (Cottonwood), tendered for filing with the Federal Energy Regulatory Commission its triennial updated market analysis and certain revisions to its FERC Electric Tariff, Original Volume. No. 1 pursuant to the Market Behavior Rules set forth in the Commission's November 17, 2003, Order in Docket Nos. EL01-11-000 and EL01-118-001, Investigation of Terms and Conditions of Public Utility Market-Based Rate Authorizations, 105 FERC ¶ 61,218 (2003).

Comment Date: February 20, 2004.

17. Acadia Power Partners, LLC

[Docket Nos. ER03-1372-002 and ER02-1406-001]

Take notice that on January 30, 2004, Acadia Power Partners, LLC filed with the Commission a request for withdrawal of the December 17, 2003, and December 31, 2003, filings made in compliance with FERC's Order Amending Market-Based Rate Tariffs and Authorizations issued November 17, 2003, in Docket Nos. EL01-118-000 and EL01-118-001, 105 FERC ¶ (61,218. Acadia states that these filings contain the Market Behavior Rules and notification of reporting status regarding reporting of transactions to publishers of electricity or natural gas price indices as prescribed in the Commission's order. Acadia also states that these filings are duplicative of other filings made on behalf of Acadia Power Partners, LLC in compliance with the Commission's order and should be withdrawn.

Comment Date: February 20, 2004.

18. Cleco Power LLC

[Docket No. ER03-1386-001]

Take notice that on December 18, 2003, Cleco Power LLC (Cleco) tendered for filing tariff sheets for the FERC Electric Tariff, Original Volume No. 1 revised in compliance with the Commission's Order issued in Docket No. ER03-1386-000 on November 18, 2003.

Comment Date: February 17, 2004.

19. South Carolina Electric & Gas Company

[Docket No. ER03-1398-002]

Take notice that on January 22, 2004, South Carolina Electric & Gas Company (SCE&G), tendered a response to Commission's requests for additional information relating to SCE&G's interconnection agreement with Columbia Energy LLC.

Comment Date: February 12, 2004.

20. Portland General Electric Company

[Docket No. ER98-1643-006]

Take notice that on January 30, 2004, Portland General Electric Company (PGE) tendered a compliance filing pursuant to the terms of its market based rate tariff approved by the Commission in Docket No. ER98-1643 and the Commission' s Order on November 17, 2003, in Docket No. EL01-118, Amending Market Based Rate Tariffs and Authorizations, 105 FERC ¶ 61,218, requiring that all market based rate tariffs incorporate certain market behavior rules. The PGE submission includes (1) a triennial updated market analysis and (2) revised tariff sheets incorporating the new market behavior rules.

Comment Date: February 20, 2004.

21. Northern Indiana Public Service Company

[Docket No. ER04-6-001]

Take notice that on December 16, 2003, Northern Indiana Public Service Company (NIPSCO) tendered a filing in compliance with the Letter Order issued by the Commission on November 25, 2003, in Docket No. ER04-6-000.

Comment Date: February 17, 2004.

22. Conectiv Bethlehem, LLC

[Docket No. ER04-231-001]

Take notice that on January 30, 2004, Conectiv Bethlehem, LLC (CBLLC), filed an amendment to its cost support for its Rate Schedule FERC No. 1, a rate schedule for compensation for Reactive Supply and Voltage Control from Generation Sources Service provided by its 885 MW generating station located in Bethlehem, Pennsylvania, pursuant to section 205 of the Federal Power Act and in response to a deficiency letter from FERC Staff dated January 23, 2004. CBLLC seeks an effective date of April 1, 2004.

CBLLC states that copies of the filing were served upon the official service list in this proceeding.

Comment Date: February 20, 2004.

23. New England Power Pool

[Docket No. ER04-498-000]

Take notice that on January 30, 2004, the New England Power Pool (NEPOOL) Participants Committee filed for acceptance materials to (1) permit NEPOOL to expand its membership to include Black Oak Energy, LLC (Black Oak), Milford Power Company, LLC (Milford), and Susquehanna Energy Products, LLC (Susquehanna); and (2) to terminate the memberships of ANP Marketing Company (ANP Marketing), Aquila Merchant Services, Inc. (Aquila), Marquette Energy Partners, LP (Marquette) and Outback Power Marketing, Inc. (Outback). The Participants Committee requests that the following effective dates: January 1, 2004, for the termination of ANP Marketing, Aquila, Marquette, and Outback; February 1, 2004, for the commencement of participation in NEPOOL by Black Oak and Milford; and April 1, 2004, for commencement of participation in NEPOOL by Susquehanna.

Comment Date: February 20, 2004.

24. American Electric Power Service Corporation

[Docket No. ER04-499-000]

Take notice that on January 30, 2004, the American Electric Power Service Corporation (AEPSC), tendered for filing a new Network Integration Service Agreement (NITSA) for Old Dominion Electric Cooperative, and a Fourth Revised NITSA for American Municipal Power—Ohio, Inc., issued pursuant to the AEP Companies' Open Access Transmission Tariff (OATT) that has been designated as the Operating Companies of the American Electric Power System FERC Electric Tariff , Third Revised Volume No. 6. AEPSC requests waiver of notice to permit the new Service Agreements to be effective on and after January 1, 2004.

AEPSC states that a copy of the filing was served upon the Parties and the state utility regulatory commissions of Indiana, Kentucky, Michigan, Ohio, Tennessee, Virginia and West Virginia.

Comment Date: February 20, 2004.

25. American Transmission Systems, Incorporated

[Docket No. ER04-501-000]

Take notice that on January 30, 2004, American Transmission Systems, Incorporated (ATSI) tendered for filing Service Agreement No. 346 a Construction Agreement for the Borough of Ellwood City. ATSI requests an effective date of January 31, 2004, for the Construction Agreement.

ATSI states that copies of this filing were served on the representatives of the Borough of Ellwood City, American Municipal Power-Ohio, Inc., Midwest ISO, and the Pennsylvania Public Utility Commission.

Comment Date: February 20, 2004.

26. Automated Power Exchange, Inc.

[Docket No. ER04-502-000]

Take notice that on January 30, 2004, Automated Power Exchange, Inc. (APX) tendered for filing an annual report for 2003 pursuant to the Commission's Order issued March 25, 1988, in the Docket No. 1033-000, 82 FERC 61,287.

Comment Date: February 20, 2004.

27. Idaho Power Company

[Docket No. ER04-503-000]

Take notice that on January 30, 2004, Idaho Power Company (Idaho Power) tendered a Notice of Cancellation of FERC Electric Tariff First Revised Volume No. 5, Service Agreement No. 147, which was accepted by order issued December 23, 2002, in Docket No. ER03-92-000 issued on October 29, 2002.

Idaho Power states that it served a copy of the Notice of Cancellation on Arizona Public Service Company.

Comment Date: February 20, 2004.

28. Elkem Metals Company

[Docket No. ER04-504-000]

Take notice that on January 30, 2004, Elkem Metals Company, L.P. (Elkem Metals) filed a Notice of Cancellation with the Federal Energy Regulatory Commission pursuant to sections 35.15 and 131.53 of the Commission's rules and regulations, 18 CFR. 35.15 and 131.53. Elkem Metals seeks to cancel its rate schedule for power sales at market-based rates, designated as FERC Electric Tariff No. 1, and Rate Schedule No. 5, as Supplemented. Elkem Metals requests that the cancellation be made effective as of February 1, 2004.

Comment Date: February 20, 2004.

29. Hawkeye Energy Greenport, LLC

[Docket No. ER04-505-000]

Take notice that on January 30, 2004, Hawkeye Energy Greenport, LLC (Hawkeye) tendered for filing a Notice of Succession, pursuant to Sections 35.16 and 131.51 of the Commission's regulations. Hawkeye states that Global Common Greenport, LLC (GCG) changed its name to Hawkeye, accordingly Hawkeye is successor to GCG's market-based rate Schedule on file with the Commission and the agreements entered into thereunder.

Comment Date: February 20, 2004.

30. Duke Energy Corporation

[Docket No. ER04-506-000]

Take notice that on January 30, 2004, Duke Energy Corporation, on behalf of Duke Electric Transmission, (collectively, Duke) tendered for filing a revised Service Agreement for Network Integration Transmission Service (NITSA) between Duke and North Carolina Electric Membership Corporation. Duke seeks an effective date for the revised NITSA of January 1, 2004.

Comment Date: February 20, 2004.

31. New England Power Pool

[Docket No. ER04-507-000]

Take notice that on January 30, 2004, the New England Power Pool (NEPOOL) Participants Committee filed for acceptance materials to permit NEPOOL to expand its membership to include Solaro Energy Marketing Corporation (Solaro). The Participants Committee requests a February 1, 2004 effective date for commencement of participation in NEPOOL by Solaro.

NEPOOL states that copies of these materials were sent to the New England State governors and regulatory commissions and the Participants in NEPOOL.

Comment Date: February 20, 2004.

32. Southern California Edison Company

[Docket No. ER04-508-000]

Take notice that January 30, 2004, Southern California Edison (SCE) tendered for filing a Notice of Cancellation of its First Revised Rate Schedule FERC No. 382, between SCE and the City of Banning. SCE is requesting an effective date of January 1, 2003.

Comment Date: February 20, 2004.

33. Delmarva Power & Light Company

[Docket No. ER04-509-000]

Take notice that on January 30, 2004, Delmarva Power & Light Company (Delmarva) tendered for filing Notices of Cancellation and Order No. 614 compliant canceled rate schedule sheets (collectively referred to as Cancellation Documents) terminating rate schedules between Delmarva and each of following: the City of Seaford, Delaware, the City of Milford, Delaware, the City of Newark, Delaware, the City of New Castle, Delaware, the Town of Middletown, Delaware, the Town of Clayton, Delaware, the Town of Smyrna, Delaware (collectively, the Municipalities), and the Delaware Municipal Electric Corporation. Delmarva also tendered unexecuted Interconnection Agreements with each of the Municipalities. Delmarva requests that the Commission allow the Cancellation Documents to become effective on December 31, 2003, and allow the Interconnection Agreements to become effective on January 1, 2004.

Delmarva states that copies of the filing were served upon the Municipalities, DEMEC and the Delaware Public Service Commission.

Comment Date: February 20, 2004.

34. Central Vermont Public Service Corporation

[Docket No. ER04-510-000]

Take notice that on January 30, 2004, Central Vermont Public Service Corporation (Central Vermont) tendered for filing an unexecuted Interconnection Agreement with North Hartland, LLC (North Hartland) in compliance with the Commission's December 30, 2003, Order in Docket No. EL03-51-002.

Central Vermont states that copies of the filing were served upon North Hartland, the Vermont Department of Public Service, and the Vermont Public Service Board.

Comment Date: February 18, 2004.

35. Minnesota Power and Split Rock Energy LLC

[Docket No. ER04-511-000]

Take notice that on January 30, 2004, Minnesota Power (MP) and Split Rock Energy LLC (SRE) filed revised Wholesale Power Coordination and Dispatch Operating Agreements.

Comment Date: February 20, 2004.

36. Idaho Power Company

[Docket No. ER04-512-000]

Take notice that on January 30, 2004, Idaho Power Company (Idaho Power) tendered for filing Third Revised Service Agreement No. 153, FERC Electric Tariff First Revised Volume No. 5 and Third Revised Service Agreement No. 156, FERC Electric Tariff First Revised Volume No. 5 for Network Integration Transmission Service (NITSA) between Idaho Power and Bonneville Power Administration. Idaho Power also tendered for filing Second Revised Service Agreement No. 158, FERC Electric Tariff First Revised Volume No. 5 for NITSA service between Idaho Power and Idaho Power-Power Supply. Idaho Power seeks an effective date of January 1, 2004.

Comment Date: February 20, 2004.

37. Central Vermont Public Service Corporation

[Docket No. ER04-515-000]

Take notice that on January 30, 2004, Central Vermont Public Service Corporation (Central Vermont) tendered for filing revised Network Integration Transmission Service Agreements and Network Operating Agreements (S&O Agreements) under Central Vermont's Open Access Transmission Tariff, FERC Electric Tariff, Second Revised Volume No. 7 (OATT) between Central Vermont and each of nine customers: Public Service Company of New Hampshire; Vermont Electric Cooperative, Inc.; New Hampshire Electric Cooperative, Inc.; Village of Johnson Water and Light Department; Village of Ludlow Electric Light Department; Lyndonville Electric Department; Village of Hyde Park Water and Light Department; Woodsville Fire District Water and Light Department; and Rochester Electric Light and Power Company. Central Vermont requests that the Commission allow all the S&O Agreements to become effective on January 1, 2004.

Central Vermont states that copies of the filing were served upon Central Vermont's jurisdictional customers, the Vermont Public Service Board, the New Hampshire Public Utilities Commission and the Vermont Department of Public Service.

Comment Date: February 20, 2004.

38. American Transmission Systems, Incorporated

[Docket No. ER04-516-000]

Take notice that on January 30, 2004, American Transmission Systems, Incorporated (ATSI) tendered for filing a revised Generator Interconnection and Operating Agreement between ATSI and Fremont Energy Center, L.L.C. (Fremont), designated as Second Revised Service Agreement No. 312 under the ATSI Open Access Transmission Tariff, FERC Electric Tariff, Third Revised Volume No. 1.

ATSI states that copies of this filing have been served on regulators in Ohio and Pennsylvania, the Midwest Independent System Operator, Inc. and Fremont.

Comment Date: February 20, 2004.

39. CalPeak Power—El Cajon, LLC

[Docket No. ER04-517-000]

Take notice that on January 30, 2004, CalPeak Power LLC, on behalf of CalPeak Power—El Cajon, LLC (El Cajon), tendered for filing, pursuant to section 205 of the Federal Power Act, 16 U.S.C. 824d (2000) and part 35 of the Commission's regulations, 18 CFR part 35 (2003), an unexecuted Must-Run Service Agreement and accompanying schedules between El Cajon and the California Independent System Operator Corporation.

Comment Date: February 20, 2004.

40. AmeriGas Propane, L.P., CHS Inc., ConocoPhillips Company, Dynegy Liquids Marketing and Trade, Ferrellgas, L.P. and National Propane Gas Association, Complainants, v. Mid-America Pipeline Company, LLC, Respondent

[Docket No. OR04-1-000]

Take notice that on February 3, 2004, AmeriGas Propane, L.P., CHS Inc., ConocoPhillips Company, Dynegy Liquids Marketing and Trade, Ferrellgas, L.P. and the National Propane Gas Association (Complainants) tendered for filing a Complaint Requesting Fast Track Processing against Mid-America Pipeline Company, LLC (MAPCO).

Complainants state that they are shippers and customers of shippers of propane and the trade association representing shippers of propane on MAPCO's Conway North interstate propane pipeline. Complainants state that MAPCO's Propane Supply Assurance Program (ASAP) and applicable Premium Service Fee are unjust and unreasonable because they have failed to remedy the problems associated with supply shortages on MAPCO's system. Complainants request that the Commission require MAPCO to delete the PSAP from its tariff and pay reparations.

Comment Date: February 17, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-263 Filed 2-11-04; 8:45 am]

BILLING CODE 6717-01-P